DEPARTMENT OF ENERGY

Federal Energy Regulatory Commission

[RM07-16-000; RM01-5-000; RM12-3-000]

Supplemental Notice of Technical Conference

| Docket Nos.
Filing via the Internet | RM07-16-000
Electronic Tariff Filings | RM01-5-000
Revisions to Electric Quarterly Report Filing Process | RM12-3-000

As announced in the Notice issued March 8, 2013,¹ the staff of the Federal Energy Regulatory Commission (Commission) will hold a technical conference on April 16, 2013 from 10:00 a.m. to 1:00 p.m. (EST) to demonstrate changes to the company registration process applicable to filers of electronic tariffs (eTariff) and other filings, such as Electric Quarterly Reports (EQRs), requiring the use of a company registration account.² Notice is hereby given that conference materials have been posted to the Commission's Web site and that there have been changes affecting the off-site broadcast of the technical conference.

¹ Notice of Technical Conference, Docket Nos. RM01-5-000, RM07-16-000, RM12-3-000 (March 8, 2013).

² The changes that will be demonstrated were directed by the Commission in its February 7, 2013 order. See Revisions to Company Registration and Establishing Technical Conference, 142 FERC ¶ 61,097 (2013). The Commission also has required the use of company registration for filers of Electric Quarterly Reports. Revisions to Electric Quarterly Report Filing Process, Order No. 770, 77 FR 71288 (Nov. 30, 2012), FERC Stats. & Regs. [Regulation Preambles] ¶ 31,338 (cross-referenced at 141 FERC ¶ 61,120) (Nov. 15, 2012).

The posted materials can be accessed by navigating to the Calendar of Events on the Commission's Web site, www.ferc.gov, and locating the technical conference on the Calendar.

In addition, a free webcast of the conference will be offered in lieu of WebEx and teleconferencing service. Anyone with internet access who wants to view and listen to the conference can do so by navigating to the Calendar of Events at www.ferc.gov and locating the technical conference on the Calendar. An email account has been created for off-site participants to submit questions for the question and answer session at the technical conference. During the technical conference, please email questions to CIDQA@ferc.gov. The Capitol Connection provides technical support for the webcast. For webcast support please visit www.CapitolConnection.org or call 703-993-3100.

Registration is not required for any technical conference participants, whether attending on-site or viewing the webcast. Off-site participants who have already registered for WebEx or teleconferencing will receive an email with a link to the webcast.

Commission conferences are accessible under section 508 of the Rehabilitation Act of 1973. For accessibility accommodations, please send an email to accessibility@ferc.gov or call toll free 1-866-208-3372 (voice) or 202-208-1659 (TTY), or send a FAX to 202-208-2106 with the required accommodations.

For more information about the technical conference, please contact: Nicholas Gladd, Federal Energy Regulatory Commission, 888 First Street NE., Washington, DC 20426, (202) 502-8836, Nicholas.Gladd@ferc.gov.

Dated: April 12, 2013.
Kimberly D. Bose,
Secretary.

[FR Doc. 2013-09259 Filed 4-18-13; 8:45 am]

BILLING CODE P